FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 002206-004.

Title: California Association of Port Authorities and Northwest Marine Terminals Association Interconference Agreement.

Parties: California Association of Port Authorities and Northwest Marine Terminals Association.

Filing Party: Timothy Schott, Association Secretary; California Association of Port Authorities; 1510 14th Street; Sacramento, California 95814.

Synopsis: The amendment changes the succession order of officers and the makeup of the Executive Committee and expands the scope of the agreement's planning to include labor practices, infrastructure development, railroad practices and environmental policy. It also makes technical changes to the agreement.

Agreement No.: 007345-022.

Title: California Association of Port Authorities Agreement.

Parties: Port of Stockton; Port of Sacramento; Port of Redmond City; Port of Hueneme; Port of San Diego; Port of Richmond; Port of Los Angeles; Port of Long Beach; Port of Oakland; Encinal Terminals; Humboldt Bay Harbor District.

Filing Party: Timothy Schott, Association Secretary; California Association of Port Authorities; 1510 14th Street; Sacramento, California 95814.

Synopsis: The amendment changes the succession order of officers and the makeup of the Executive Committee and expands the scope of the agreement's planning to include labor practices, infrastructure development, railroad practices and environmental policy. It also makes technical changes to the agreement.

Agreement No.: 011325-032.

Title: Westbound Transpacific Stabilization Agreement.

Parties: American President Lines, Ltd./APL Co. Pte Ltd.; China Shipping Container Lines Co., Ltd.; COSCO Container Lines Company Limited; Evergreen Marine Corporation (Taiwan), Ltd.; Hanjin Shipping Co., Ltd.; Hapag-Lloyd Container Line GmbH; Kawasaki Kisen Kaisha, Ltd.; Mitsui O.S.K. Lines, Ltd.; A. P. Hyundai Merchant Marine Co. Ltd.; Kawasaki Kisen Kaisha Ltd.; Mitsui O.S.K. Lines, Ltd.; Nippon Yusen Kaisha Line; Orient Overseas Container Line Limited; P&O Nedlloyd B.V.; P&O Nedlloyd Limited and Yangming Marine Transport Corp.

Filing Party: David F. Smith, Esq.; Sher & Blackwell, LLP; 1850 M Street, NW., Suite 900; Washington, DC 20036.

Synopsis: The amendment reflects the withdrawal of Mitsui O.S.K. Lines, Ltd., effective June 12, 2005.

Agreement No.: 011516-005.

Title: Voluntary Intermodal Sealift Discussion Agreement.

Parties: American President Lines, Ltd.; Crowley Liner Services, Inc.; Crowley Marine Services, Inc.; Farrell Lines, Inc.; Lykes Lines Limited, LLC; Maersk Lines, Limited; Matson Navigation Company, Inc.; and Totem Ocean Trailer Express, Inc.

Filing Party: Gerald A. Malia, Esq.; 1660 L Street, NW., Suite 506; Washington, DC 20036.

Synopsis: The amendment changes Lykes' name to CP Ships USA, LLC.

Agreement No.: 011702-003.

Title: Hapag-Lloyd/Lykes Space Charter Agreement.

Parties: Hapag-Lloyd Container Linie GmbH and Lykes Lines Limited, LLC. (“Lykes”).

Filing Party: Wayne R. Rohde, Esq.; Sher & Blackwell; 1850 M Street, NW., Suite 900; Washington, DC 20036.

Synopsis: The amendment changes Lykes' name to CP Ships USA, LLC, deletes references to Appendix A, deletes obsolete language from Article 7.2, and restates the agreement.

Agreement No.: 011907-001.

Title: ABX/APL Space Charter Agreement.

Parties: CMA CGM S.A.; APL Co. Pte Ltd.; P&O Nedlloyd Limited/P&O Nedlloyd B.V. (acting as a single party).

Filing Party: Neil M. Mayer, Esq.; Hoppel, Mayer & Coleman; 1000 Connecticut Avenue, NW., Washington, DC 20036.

Synopsis: The amendment alters Article 5.1 to reduce the number of slots required to be chartered by APL under the agreement from 200 TEUs per sailing to 150 TEUs per sailing.

Agreement No.: 011910-001.

Title: HSDG/APL Space Charter Agreement.

Parties: Hamburg Sud and APL Co. PTE Ltd.

Filing Party: Wayne R. Rohde, Esq.; Sher & Blackwell, LLP; 1850 M Street, NW., Suite 900; Washington, DC 20036.

Synopsis: The amendment reduces APL's slot allocation and extends the duration of the agreement.

By Order of the Federal Maritime Commission.
Dated: June 10, 2005.
Bryant L. VanBrakle,
Secretary.

[FR Doc. 05-11832 Filed 6-15-05; 8:45 am]

BILLING CODE 6730-01-P